DEPARTMENT OF VETERANS AFFAIRS

Geriatrics and Gerontology Advisory Committee; Notice of Meeting

The Department of Veterans Affairs gives notice under Public Law 92-463 (Federal Advisory Committee Act) that a meeting of the Geriatrics and Gerontology Advisory Committee (GGAC) will be held on September 28, 2004, at the Department of Veterans Affairs Central Office, 810 Vermont Avenue, NW., Washington, DC. The meeting will convene in Room 530 at 8:30 a.m. and conclude at 5 p.m. The meeting is open to the public.

The purpose of the Committee is to provide advice to the Secretary of Veterans Affairs and the Under Secretary for Health on all matters pertaining to geriatrics and gerontology by assessing the capability of VA health care facilities to meet the medical, psychological, and social needs of older veterans and by evaluating VA facilities designated as Geriatric Research, Education and Clinical Centers (GRECCs).

Presentations will include VA's Long-Term Care Strategic Plan and Long-Term Care Planning Model; Office of Academic Affiliations—VA Geriatric Education (size, scope and outcomes of individual programs); review of GRECC contributions to VA and methods of rating individual GRECC's performance; review of progress on projects in Assisted Living and All-Inclusive Care authorized by the Millennium Act; changes to research funding methodology and research tracking data base.

No time will be allocated at this meeting for receiving oral presentations from the public. Interested parties can provide written comments for review by the Committee in advance of the meeting to Mr. Daniel Converse, Designated Federal Officer, Geriatrics and Extended Care Strategic Healthcare Group (114), Department of Veterans Affairs, 810 Vermont Avenue, NW., Washington, DC 20420. Individuals who wish to attend the meeting should contact Ms. Jacqueline Holmes, Staff Assistant, at (202) 273-8539.

Dated: August 23, 2004.
By direction of the Secretary.
E. Philip Riggin,
Committee Management Officer.

[FR Doc. 04-20048 Filed 9-2-04; 8:45 am]

BILLING CODE 8320-01-M